SMALL BUSINESS ADMINISTRATION

[Declaration of Disaster #3418]

State of Illinois (Amendment #2)

In accordance with a notice received from the Federal Emergency Management Agency, dated May 23, 2002, the above numbered declaration is hereby amended to establish the incident period for this disaster as beginning April 21, 2002 and continuing through May 23, 2002.

All other information remains the same, i.e., the deadline for filing applications for physical damage is July 20, 2002 and for economic injury the deadline is February 21, 2003.

(Catalog of Federal Domestic Assistance Program Nos. 59002 and 59008)
Dated: July 4, 2002.
Herbert L. Mitchell,
Associate Administrator for Disaster Assistance.

[FR Doc. 02-14587 Filed 6-10-02; 8:45 am]

BILLING CODE 8025-01-M